DEPARTMENT OF HOUSING AND URBAN DEVELOPMENT

[Docket No. FR-7038-N-03; OMB Control No. 2502-0562]

60-Day Notice of Proposed Information Collection: Manufactured Housing Dispute Resolution Program

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: July 6, 2021.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Manufactured Housing Dispute Resolution Program.

OMB Approval Number: 2502-0562.

OMB Expiration Date: 08/31/2021.

Type of Request: Revision of a currently approved collection.

Form Numbers: HUD-310-DRSC; HUD-311-DR.

Description of the need for the information and proposed use: The state programs will file form HUD-310-DRSC. HUD uses the information on state certifications to determine whether the state programs comply with the minimum requirements set out in the regulations. Homeowners and industry respondents will use form HUD-311-DR. HUD uses the required information for screening that a defect that is properly alleged and timely reported under the Federal manufactured housing dispute resolution program.

Respondents: Individuals and households; State, Local or Tribal Government; Business or other for-profit.

Estimated Number of Respondents: 125.

Estimated Number of Responses: 125.

Frequency of Response: HUD-310-DRSC, one time for initial independent application by state, and then one time every three years for certain states; HUD-311-DR, one time per alleged defect.

Average Hours per Response: 1.

Total Estimated Burden: 125.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Janet Golrick,
Acting, Chief of Staff for the Office of Housing—Federal Housing Administration.

[FR Doc. 2021-09713 Filed 5-6-21; 8:45 am]

BILLING CODE 4210-67-P